DEPARTMENT OF TRANSPORTATION

Federal Aviation Administration

14 CFR Part 39

[Docket No. FAA-2009-0189; Directorate Identifier 2009-CE-011-AD; Amendment 39-15831; AD 2009-05-07]

RIN 2120-AA64

Airworthiness Directives; PILATUS AIRCRAFT LTD. Models PC-12, PC-12/45, PC-12/47, and PC-12/47E Airplanes

AGENCY: Federal Aviation Administration (FAA), DOT.

ACTION: Final rule; request for comments.

SUMMARY: We are adopting a new airworthiness directive (AD) for the products listed above that will supersede an existing AD. This AD results from mandatory continuing airworthiness information (MCAI) issued by the aviation authority of another country to identify and correct an unsafe condition on an aviation product. The MCAI describes the unsafe condition as:

Some operators have reported occurrences where the rear stick-pusher cable clamp shifted forward on the elevator cable. This condition, if not corrected, may reduce the effectiveness of the stick-pusher and/or limit elevator control movement.

Ambiguous information in the adjustment procedure for the stick-pusher cable tension and stick-pusher cable tension relaxation with time were identified as contributing factors.

This AD requires actions that are intended to address the unsafe condition described in the MCAI.

DATES: This AD becomes effective March 30, 2009.

On March 30, 2009, the Director of the Federal Register approved the incorporation by reference of certain publications listed in this AD.

We must receive comments on this AD by April 9, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Doug Rudolph, Aerospace Engineer, 901 Locust, Room 301, Kansas City, Missouri 64106; telephone: (816) 329-4059; fax: (816) 329-4090.

SUPPLEMENTARY INFORMATION:

Discussion

On March 5, 2008, we issued AD 2008-06-17, Amendment 39-15429 (73 FR 13438; March 13, 2008). That AD required actions intended to address an unsafe condition on the products listed above.

Since we issued AD 2008-06-17, the new MCAI adds affected serial numbers, adds the Model PC-12/47E, and references new service information that supersedes old service information referenced in AD 2008-06-17. The inspection and corrective action in AD 2008-06-17 did not fully address the unsafe condition. The new service bulletin calls out an improved inspection and corrective action procedures to address the unsafe condition.

The European Aviation Safety Agency (EASA), which is the Technical Agent for the Member States of the European Community, has issued EASA AD No.: 2009-0040, dated February 20, 2009 (referred to after this as “the MCAI”), to correct an unsafe condition for the specified products. The MCAI states:

Some operators have reported occurrences where the rear stick-pusher cable clamp shifted forward on the elevator cable. This condition, if not corrected, may reduce the effectiveness of the stick-pusher and/or limit elevator control movement.

Ambiguous information in the adjustment procedure for the stick-pusher cable tension and stick-pusher cable tension relaxation with time were identified as contributing factors.

For the reason described above, this Airworthiness Directive (AD) requires an inspection of the stick-pusher servo-cables installation and adjustment of the stick-pusher cable tension, as necessary.

You may obtain further information by examining the MCAI in the AD docket.

Relevant Service Information

PILATUS AIRCRAFT LTD. has issued PC12 Service Bulletin No. 27-020, Revision No. 1, dated January 30, 2009. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because if uncorrected, the possible jamming of the loose stick pusher cable could lead to loss of elevator control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0189; Directorate Identifier 2009-CE-011-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15429 (73 FR 13438; March 13, 2008), and adding the following new AD:

2009-05-07 Pilatus Aircraft Ltd.: Amendment 39-15831; Docket No. FAA-2009-0189; Directorate Identifier 2009-CE-011-AD.

Effective Date

(a) This airworthiness directive (AD) becomes effective March 30, 2009.

Affected ADs

(b) This AD supersedes AD 2008-06-17, Amendment 39-15429.

Applicability

(c) This AD applies to the following model and serial number airplanes, certificated in any category.

(1) Models PC-12, PC-12/45, PC-12/47, manufacturer serial numbers (MSNs) 101 through 544, and MSNs 546 through 888; and

(2) Model PC-12/47E, manufacturer serial number 545, and MSNs 1001 through 1101.

Subject

(d) Air Transport Association of America (ATA) Code 27: Flight Controls.

Reason

(e) The mandatory continuing airworthiness information (MCAI) states:

Some operators have reported occurrences where the rear stick-pusher cable clamp shifted forward on the elevator cable. This condition, if not corrected, may reduce the effectiveness of the stick-pusher and/or limit elevator control movement.

Ambiguous information in the adjustment procedure for the stick-pusher cable tension and stick-pusher cable tension relaxation with time were identified as contributing factors.

For the reason described above, this Airworthiness Directive (AD) requires an inspection of the stick-pusher servo-cables installation and adjustment of the stick-pusher cable tension, as necessary.

Actions and Compliance

(f) Unless already done, do the following actions:

(1) Within 150 hours time-in-service (TIS) or 30 days after March 30, 2009 (the effective date of this AD), whichever occurs first, inspect the stick-pusher servo-cables for correct installation, position, and tension in accordance with the Accomplishment Instructions of PILATUS AIRCRAFT LTD. PC12 Service Bulletin No. 27-020, Revision No. 1, dated January 30, 2009.

(2) If any discrepancy is found as a result of the inspection required by paragraph (f)(1) of this AD, before further flight, do all corrective actions in accordance with the Accomplishment Instructions of PILATUS AIRCRAFT LTD. PC12 Service Bulletin No. 27-020, Revision No. 1, dated January 30, 2009.

FAA AD Differences

Note: This AD differs from the MCAI and/or service information as follows: The MCAI does not supersede the previous MCAI on which FAA AD 2008-06-17 was based because it was a one-time inspection. For consistency within the FAA's regulatory system and to avoid confusion, this AD supersedes AD 2008-06-17.

Other FAA AD Provisions

(g) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No.: 2009-0040, dated February 20, 2009, and PILATUS AIRCRAFT LTD. PC12 Service Bulletin No. 27-020, Revision No. 1, dated January 30, 2009, for related information.

Material Incorporated by Reference

(i) You must use PILATUS AIRCRAFT LTD. PC12 Service Bulletin No. 27-020, Revision No. 1, dated January 30, 2009, to do the actions required by this AD, unless the AD specifies otherwise.

(1) The Director of the Federal Register approved the incorporation by reference of this service information under 5 U.S.C. 552(a) and 1 CFR part 51.

(2) For service information identified in this AD, contact PILATUS AIRCRAFT LTD., Customer Service Manager, CH-6371 STANS, Switzerland; telephone: +41 (0)41 619 62 08; fax: +41 (0)41 619 73 11; Internet: http://www.pilatus-aircraft.com/, or e-mail: SupportPC12@pilatus-aircraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri on February 25, 2009.
John R. Colomy,
Acting Manager, Small Airplane Directorate, Aircraft Certification Service.

[FR Doc. E9-4437 Filed 3-9-09; 8:45 am]

BILLING CODE 4910-13-P